DEPARTMENT OF COMMERCE

National Oceanic and Atmospheric Administration

50 CFR Part 300

[Docket No. 180809745-8745-01]

RIN 0648-BI40

International Affairs; Antarctic Marine Living Resources Convention Act; Correction

AGENCY: National Marine Fisheries Service (NMFS), National Oceanic and Atmospheric Administration (NOAA), Commerce.

ACTION: Final rule; technical amendment.

SUMMARY: NMFS is hereby making a technical amendment to our regulations without altering the substance of the regulations. This change will correct a paragraph mis-numbering.

DATES: This final rule is effective March 11, 2019.

FOR FURTHER INFORMATION CONTACT: Mi Ae Kim, Office of International Affairs and Seafood Inspection, NMFS (phone 301-427-8365, or email mi.ae.kim@noaa.gov).

SUPPLEMENTARY INFORMATION:

Background

NMFS previously published a final rule to implement revisions and updates to NMFS' Antarctic Marine Living Resources Convention Act (AMRLCA) regulations under 50 CFR part 300, subpart G, to streamline the regulations, reflect current measures adopted by the Commission for the Conservation of Antarctic Marine Living Resources (CCAMLR or Commission), and make other adjustments. The final rule published in the Federal Register on January 19, 2017 (82 FR 6221). NMFS has identified that 50 CFR 300.105(h) includes two paragraphs numbered as (h)(3). This rule solely corrects that mis-numbering by numbering the second paragraph as (h)(4) and does not make any substantive changes to the regulations.

Classification

This final rule has been determined to be not significant for the purposes of Executive Order 12866.

The Assistant Administrator for Fisheries, NOAA (AA), finds that the need to immediately implement this regulatory correction constitutes good cause to waive the requirements to provide prior notice and opportunity for public comment pursuant to the authority set forth in 5 U.S.C. 553(b)(B) of the Administrative Procedure Act (APA), because prior notice and opportunity for public comment on this final rule is unnecessary and contrary to the public interest. Such procedures are unnecessary and contrary to the public interest, because the rules implementing revisions and updates to NMFS' Antarctic Marine Living Resources Convention Act (AMRLCA) regulations have already been subject to notice and comment and not correcting the regulatory text would result in confusion and uncertainty for the affected entities.

For the aforementioned reasons, the AA also finds good cause to waive the 30-day delay in the effectiveness of this action under 5 U.S.C. 553(d)(3).

These measures are thus exempt from the procedures of the Regulatory Flexibility Act because prior notice and comment are not required under the APA.

List of Subjects in 50 CFR Part 300

Antarctica, Antarctic marine living resources, Catch documentation scheme, Fisheries, Fishing, Intergovernmental relations, Reporting and recordkeeping requirements.

Dated: March 5, 2019.
Samuel D. Rauch III,
Deputy Assistant Administrator for Regulatory Programs, National Marine Fisheries Service.

Accordingly, 50 CFR part 300 is corrected by making the following correcting amendments:

PART 300—INTERNATIONAL FISHERIES REGULATIONS

Subpart G—Antarctic Marine Living Resources

1. The authority citation for part 300, subpart G, continues to read as follows:

Authority: 16 U.S.C. 2431 et seq., 31 U.S.C. 9701 et seq.

2. Amend § 300.105 by revising paragraph (h) to read as follows:

§ 300.105 Preapproval for importation of frozen Dissostichus species.

* * * * *

(h) NMFS will not issue a preapproval certificate for any shipment of Dissostichus species:

(1) Identified as originating from a high seas area designated by the Food and Agriculture Organization of the United Nations as Statistical Area 51 or Statistical Area 57 in the eastern and western Indian Ocean outside and north of the Convention Area;

(2) Determined to have been harvested or transshipped in contravention of any CCAMLR Conservation Measure in force at the time of harvest or transshipment;

(3) Determined to have been harvested or transshipped by a vessel identified by CCAMLR as having engaged in illegal, unreported and unregulated (IUU) fishing; or

(4) Accompanied by inaccurate, incomplete, invalid, or improperly validated CDS documentation or by a SVDCD.

[FR Doc. 2019-04358 Filed 3-8-19; 8:45 am]

BILLING CODE 3510-22-P